DEPARTMENT OF AGRICULTURE

Forest Service

Okanogan and Wenatchee National Forests Resource Advisory Committee

AGENCY: Forest Service, USDA.

ACTION: Notice of field trip.

SUMMARY: The Eastern Washington Cascades and Yakima Provincial Advisory Committees will meet for a field trip on Wednesday, June 17 at the Tonasket Ranger District office, 1 West Winesap, Tonasket, WA. This field trip will begin at 9 a.m. and continue until 3 p.m. Provincial Advisory committee members will be visiting a grazing allotment near Wauconda, WA. This field tour is open to Provincial Advisory Committee members.

FOR FURTHER INFORMATION CONTACT: Direct questions regarding this meeting to Robin DeMario, Public Affairs Specialist, Okanogan-Wenatchee National Forest, 215 Melody Lane, Wenatchee, Washington 98801, (509) 664-9200.

Dated: June 1, 2009.
Roland Giller,
Okanogan-Wenatchee National Forest, Public Affairs Group Leader.

[FR Doc. E9-13294 Filed 6-5-09; 8:45 am]

BILLING CODE 3410-11-P